DEPARTMENT OF TRANSPORTATION

Maritime Administration

Docket Number: [MARAD-2001-9051]

Requested Administrative Waiver of the Coastwise Trade Laws

AGENCY: Maritime Administration, Department of Transportation.

ACTION: Invitation for public comments on a requested administrative waiver of the Coastwise Trade Laws for the vessel OCKHAM'S RAZOR.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before April 9, 2001.

ADDRESSES: Comments should refer to docket number MARAD-2001-9051. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD's regulations at 46 CFR Part 388.

Vessel Proposed for Waiver of the U.S.-Build Requirement

(1) Name of vessel and owner for which waiver is requested. Name of vessel: OCKHAM'S RAZOR. Owner: David M. Ahlers.

(2) Size, capacity and tonnage of vessel. According to the applicant: “11.7 GT (Measured according to 46 CFR 69.209 (a) “vessel designed for sailing—GT=.5LBD.100″ L=34′5″; B=11′6″; D=5′11″)”

(3) Intended use for vessel, including geographic region of intended operation and trade. According to the applicant: “Sailing instruction for not more than 12 passengers on Cayuga Lake (New York State Finger Lake)”

(4) Date and Place of construction and (if applicable) rebuilding. Date of construction: 1983. Place of construction: Dorion, Quebec, Canada J7V 5V8.

(5) A statement on the impact this waiver will have on other commercial passenger vessel operators. According to the applicant:

No negative impact is expected on current sailing instruction operations on Cayuga Lake which are very limited to non-existent. I believe a positive impact on sailing education and safety is expected if this waiver is granted. A number of individuals, including the management of the Ithaca Yacht Club, have indicated that a formal course in the practical aspects of handling a cruising sailboat, particularly if a spouse is incapacitated or falls overboard or if weather conditions deteriorate suddenly, is needed locally and would be well received. As a life long sailor—both cruising and competitive racing, an experienced educator—Cornell University Graduate School professor and adult professional educator and a recent recipient of a 100 GT master Coast Guard License with a Sailing Endorsement, I believe I could successfully offer this type of course.

For the past 18 years I have been sailing the Tanzer 10.5 for which this waiver is being requested. Thus, I know the boat very well—a significant safety factor in an instructional program. In addition, this vessel is well founded and fully equipped, including inboard diesel power and all required Coast Guard safety gear. The pilothouse design permits operation under sail or motor from a protected internal helm or operation with the 360 degree visibility of an external helm. Despite its size, the Tanzer 10.5 is rigged to be sailed, even in extreme conditions, by a single person. The modified center cockpit design provides for a flat aft deck ideally suited as a place for beginners to be close to the action, but not at any risk from their inexperience. All winches are self-tailing and all lines have sufficient purchase to permit handling with a minimal effort. Anchoring systems are power driven and rigged for immediate deployment. Even though this cruising sailboat is 18 years old, I am not aware of any other cruising sailboat currently produced by a U.S. manufacturer, which would provide in a single vessel of this size these same safety and training advantages. Unfortunately, the Tanzer plants in the U.S. and Canada ceased operation over ten years ago. No new Tanzer 10.5's have been built in the U.S. or in Canada since then nor will any be built in the future.

(6) A statement on the impact this waiver will have on U.S. shipyards. According to the applicant: “None.”

Dated: March 2, 2001.
By Order of the Maritime Administrator.
Joel C. Richard,
Secretary, Maritime Administration.

[FR Doc. 01-5901 Filed 3-8-01; 8:45 am]

BILLING CODE 4910-81-P